ENVIRONMENTAL PROTECTION AGENCY

40 CFR Parts 60, 63, 261, and 270

[FRL-6720-9]

RIN 2050-AE01

NESHAPS: Final Standards for Hazardous Air Pollutants for Hazardous Waste Combustors

AGENCY: Environmental Protection Agency (EPA).

ACTION: Final rule; technical correction.

SUMMARY: On September 30, 1999 the Environmental Protection Agency (EPA) published the Hazardous Waste Combustors NESHAP Final Rule. On November 19, 1999 EPA published the first technical correction of that rule to address a time sensitive situation. Today's rule corrects numerous typographical errors and clarifies several issues from the September 30, 1999 rule, one issue from a closely-related June 19, 1998 rule, and makes one adjustment to the November 19, 1999 technical correction. These corrections and clarifications will make the NESHAP final rule easier to understand and implement.

DATES: This rule is effective on July 10, 2000.

ADDRESSES: The public may obtain a copy of this technical correction at the RCRA Information Center (RIC), located at Crystal Gateway One, 1235 Jefferson Davis Highway, First Floor, Arlington, Virginia.

FOR FURTHER INFORMATION CONTACT: For general information, contact the RCRA Hotline at (800) 424-9346 (toll free) or (703) 412-9812 in the Washington, D.C. metropolitan area. For information on this rule contact David Hockey (5302W), Office of Solid Waste, Ariel Rios Building, 1200 Pennsylvania Avenue, N.W., Washington, DC 20460, at e-mail address hockey.david@epa.gov.

SUPPLEMENTARY INFORMATION:

I. Good Cause Exemption

Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because it merely corrects errors and clarifies certain requirements in the Hazardous Waste Combustors NESHAP Final Rule (64 FR 52828, September 30, 1999). Today's action also supplies one omission from the emergency technical correction published on November 19, 1999 (64 FR 63209) and makes one correction to the related June 19, 1998 (63 FR 33783) final rule. With the exception of the emergency technical correction published November 19, 1999, the final rules were subject to notice and comment. Thus, notice and public procedure are unnecessary. EPA finds that this constitutes good cause under 5 U.S.C. 553(b)(B).

II. Reasons and Basis for Today's Action

The Agency has received numerous comments from the regulated community requesting clarification and correction of the rule finalizing NESHAPS for hazardous waste combustors (64 FR 52828, September 30, 1999). The Agency is correcting typographical errors and misprints, as well as clarifying several matters related to preamble statements and regulatory provisions. Today's action also supplies one omission from the emergency technical correction published on November 19, 1999 (64 FR 63209) and makes one correction to the related June 19, 1998 (63 FR 33783) final rule.

The regulated community has also raised other issues and questions through informal comments as well as through litigation that will in many cases require notice and comment rulemaking. The Agency plans to propose changes in the Federal Register as quickly as possible that will address many of these other issues.

III. Corrections and Clarifications

A. Corrections to the September 30, 1999 Final Rule

1. Units for Particulate Matter in Appendix A, Method 5i Are Corrected

The unit for particulate matter (PM) concentration given in section 12.2 of Method 5i in appendix A of part 60 is “mg/unit volume” (see 64 FR 53030). However, in the preamble discussion on pages 52927-52928, the PM concentration is expressed as “mg/dscm.” The Agency is revising the mg/unit volume in Appendix A, because the PM criteria would change depending on the volume measured. Dry standard cubic meter (dscm) is the intended and more precise measure.

2. Sources That Have Initiated RCRA Closure Requirements Are Exempt: Table 1 to § 63.1200

Table 1 in § 63.1200 (see page 64 FR 53038) explains the exemptions from these regulations for hazardous waste combustors. According to (1)(ii) of that table, previously affected sources have to be in compliance with the closure requirements of subpart G of 40 CFR part 63, 40 CFR part 264, or 40 CFR part 265 to be exempt from the requirements of subpart EEE of part 63. The Agency agrees with commenters that, under our existing regulations, previously affected sources need only have initiated these closure requirements to be exempt, and today we are revising Table 1 of § 63.1200 to reflect this change.

3. Continuous Monitoring of Both Hydrocarbons and Carbon Monoxide Is Not Required: §§ 63.1203, 63.1204, 63.1205, and 63.1209

The preamble to the September 30, 1999 rule states on page 52848 that, to comply with the carbon monoxide and hydrocarbon emission standard, you must continuously monitor and comply with the emission standard for either carbon monoxide or hydrocarbons. If you choose to continuously monitor carbon monoxide, however, you must document compliance with the hydrocarbon standard only during the destruction and removal efficiency (DRE) test or its equivalent.

Several stakeholders note that the regulatory language implementing this provision could be interpreted to mean that continuous monitoring and compliance with both the carbon monoxide and hydrocarbon emissions standards are required. The Agency is today revising the regulatory language to clarify as intended that continuous monitoring and compliance with either the carbon monoxide or hydrocarbon standard is required. See revised §§ 63.1203(a)(5)(i), 63.1203(b)(5)(i), 63.1204(a)(5)(i)(A), 63.1204(a)(5)(ii)(B), 63.1204(b)(5)(i)(A)(1), 63.1205(a)(5)(i), 63.1205(b)(5)(i), 63.1209(a)(1)(i), and 63.1209(a)(7).

4. References to Subparts BB and CC of Part 264 Are Redundant: §§ 63.1203(e), 63.1204(g), 63.1205(e)

The regulatory sections that prescribe emission standards for hazardous waste burning incinerators (§ 63.1203), cement kilns (§ 63.1204), and lightweight aggregate kilns (§ 63.1205) each reference subparts BB and CC of 40 CFR part 264 that prescribe emission standards for equipment leaks, tanks, surface impoundments, and containers. Several commenters assert that is is redundant and unnecessary to reference these subparts because they are separately applicable under part 264. We agree and, to avoid redundancy, therefore delete the references from this rule.

5. The 720 Hour Operating Limit is Renewable: §§ 63.1206(b)(5)(i)(C)(1) and 63.1207(h)(2)

The preamble to the September 30, 1999 rule states that the rule allows you to operate after a failed test for purposes of pretesting or performance testing for up to a total of 720 hours of operation, renewable at the discretion of the Administrator. See 64 FR 52914 and § 63.1207(k)(2). We explain in the preamble that the 720 operating period is renewable at the discretion of the Administrator in response to commenters concerns about unforeseen delays in pretesting and testing activities and given that current RCRA rules allow renewals.

Several stakeholders noticed that we did not include allowance for renewals of the 720 hour periods in two other similar provisions of the rule: § 63.1206(b)(5)(i)(C)(1) pertaining to restrictions on waste burning after a change in design, operation, or maintenance that may adversely affect compliance; and § 63.1207(h)(2) pertaining to pretesting and performance testing under waived operating limits to satisfy the periodic comprehensive performance testing requirements. This was a drafting oversight and we are today correcting the rule to allow the Administrator to extend the 720 hours of operations for pretesting and performance testing as warranted in these situations as well.

6. Average Limits Are Calculated as the Average of the Test Run Averages: § 63.1209

The preamble to the September 30, 1999 rule states that feedrate limits for mercury, semi-volatile metals, low-volatile metals, and hydrochloric acid/chlorine gas must be determined by establishing the “average of the test run averages” from the comprehensive performance test (see pages 64 FR 52943, 52946, and 52952, respectively). However, in § 63.1209, the requirement is incorrectly expressed as the “average of the average hourly rolling averages for each run” from the comprehensive performance test. Today's rule amends the regulatory language to read “the average of the test run averages,” which was the intended phrase. We are also clarifying that the preamble summary tables for semi-volatile metals and low-volatile metals (64 FR 52945) and hydrochloric acid/chlorine gas (64 FR 52951) should state that feedrate limits for 12-hour averaging periods are established by the average of test run averages rather than the average of the average hourly rolling averages for each run.

7. The Table in § 63.1211 Summarizing Recordkeeping Requirements Is Corrected

Today's rule corrects the reference to § 63.1206(c)(7), as well as adding a new reference to for § 63.1206(c)(5), to the table of recordkeeping requirements found in § 63.1211 (see 64 FR 53065). No substantive recordkeeping changes are made by this action; we are merely updating the table's references to other sections where the substantive recordkeeping requirements are lodged.

8. The Definition of Rolling Average in the Appendix to Subpart EEE of Part 63 Is Corrected

In the definitions section of the appendix to subpart EEE, the definition for a “rolling average” includes a sentence on continuous emissions monitoring systems (CEMS) other than carbon monoxide and total hydrocarbons CEMS. This sentence is unnecessary because we did not finalize other CEMS-based emission standards; therefore, we are removing this sentence from the appendix to subpart EEE.

9. The Citation in § 270.42 of the Notification of Compliance Is Corrected

The September 30, 1999 final rule moved the Notification of Intent to Comply (NIC) requirements from § 63.1211 to § 63.1210, but failed to revise the citation of § 63.1211 in § 270.42. We are correcting this citation in today's rule.

10. Information Required To Be Included in the Performance Test Plan Is Consolidated: § 63.1207(f)(1)

The rule lists information that must be included in the comprehensive performance test plan under § 63.1207(f)(1). Several stakeholders note, however, that the list is not complete. Several types of additional information that must be included in the comprehensive performance test plan were inadvertently omitted from the summary list in § 63.1207(f)(1). Accordingly, to avoid a misleading summary list, we are revising the summary list to include all information that various provisions of the rule require to be included in the comprehensive performance test plan.

11. Definition of a Responsible Official Is Revised: § 63.1212(a)(2)

We are revising the definition of a “responsible official” provided in § 63.1212(a)(2) of the final rule so that it conforms to the definition in the Clean Air Act implementing regulations of § 63.2. We did not intend to alter the statutory definition though § 63.1212(a)(2).

12. Several Citations Are Corrected

In the § 63.1201(a) definition of an automatic waste feed cutoff system, we incorrectly cited § 63.1206(c)(2)(viii) rather than § 63.1206(c)(3)(viii). In § 63.1210(c)(2), we incorrectly cited paragraph (b)(1) rather than (c)(1). In §§ 63.1212(b)(1) and (2), we incorrectly cited requirements for § 63.1206(a)(2) rather than § 63.1206(a)(3). These citations are corrected in today's action.

13. Citation in Table 1 to § 63.1200 Is Corrected

Table 1 to § 63.1200 (3) (see 64 FR 53038) provides an exemption from the requirements of subpart EEE if you burn certain wastes exempt from regulation under section 266; however, the exemption in the table incorrectly cites section 266.100(b). The correct cite is section 266.100(c). We revised the regulations at section 266.100 as part of the HWC MACT final rule, to include a new section 266.100(b) and inadvertently failed to revise the corresponding cite in Table 1 to reflect the change made to section 266.100. Today's action revises Table 1 to reflect the correct cite to section 266.100(c).

B. Correction to the November 19, 1999 Technical Correction

In the November 19, 1999 rule, the Agency amended § 63.1210(b)(1)(iv) by replacing the word “intent” with “intend” (see 64 FR 63212). However, the Agency inadvertently deleted the words “do not.” Today's rule reinstates the words “do not” before “intend” in § 63.1210(b)(1)(iv).

C. Corrections to the Related June 19, 1998 Final Rule

1. Gas Turbines Are Added to the List of Approved Burners for Comparable Fuels

The June 19, 1998 (63 FR 33783) final rule establishing the comparable fuels exclusion allows the burning of comparable fuels and syngas fuels in certain combustion sources. We intended comparable fuels and syngas fuels to be burned only in those units capable of managing the excluded hazardous waste. Commenters noted that gas turbines are capable of managing and burning syngas fuels. However, we inadvertently excluded gas turbines from the list of approved comparable/syngas fuel burners. Today's action adds gas turbines to the list of approved comparable/syngas burners under § 261.38(c)(ii)(2).

D. Clarifications of the September 30, 1999 Final Rule

1. Clarification That the Emergency Safety Vent Operating Plan Is To Be Kept in the Operating Record

The preamble to the September 30, 1999 rule states on page 52907 that if you use an emergency safety vent (ESV) in your system design, then you must develop and submit an ESV operating plan with the DOC and NOC. However, there are no requirements in § 63.1206(c)(4)(ii) for submitting the plan because we intended that an ESV operating plan must only be kept in the facility's operating record. The Agency wishes to clarify today that the preamble language requiring submittal of the plan with the DOC and NOC is incorrect and should be disregarded. The ESV operating plan need only be kept in the source's operating record.

2. Preamble Language Regarding a Ten-Minute Average Limit for pH for HCl and Cl2 Is Incorrect

In § 63.1209, paragraph (o)(3)(iv) requires owners/operators of combustion facilities using wet scrubbers to control hydrochloric acid and chlorine gas to establish a limit on the minimum pH on an hourly rolling average basis (see 64 FR 53062). However, the preamble states that the minimum pH must be established by a dual ten-minute and hourly rolling average (see 64 FR 52952). As several stakeholders pointed out, earlier in the preamble (64 FR 52920) the Agency concluded that, although there may be site-specific circumstances that warrant shorter than one hour in duration, the ten-minute rolling average is not appropriate for a national regulation. The Agency wishes to clarify that the regulatory language is correct, and that the preamble language found on page 52952 is incorrect and should be disregarded.

3. Preamble Language Regarding Manual Stack Methods for Compliance With the HCl and Cl2 Standards Is Incorrect

On page 52958, we state that for compliance with the hydrochloric acid and chlorine standards, you must use Method 26A in 40 CFR part 60, appendix A. We also go on to say that we reject other methods for HCl and Cl2 compliance. These preamble statements are in error and should be disregarded. In the final regulatory language we allow the use of Methods 261, 320, or 321 for compliance.

4. The Response to Comments Associated With Combustion System Leaks Is Incorrect

The September 30, 1999 rule states that a source must control combustion system leaks by: (1) Keeping the combustion zone sealed to prevent combustion system leaks; (2) maintaining the maximum combustion zone pressure lower than ambient pressure using an instantaneous monitor; or, (3) upon written approval of the Administrator, using an alternative means of control to provide control of combustion system leaks equivalent to maintenance of combustion pressure lower than ambient pressure (see § 63.1206(c)(5)). In our response to comments on the proposed rule (see US EPA, “Final Response to Comments to the Proposed HWC MACT Standards: Volume II,” July 1999) we incorrectly implied that it would be appropriate for a source to use a one-minute averaging period to comply with the provisions of option 2 above.¹

¹ For instance, one of the sections in this document states “therefore, we have decided to follow commenters suggestions and allow a one-minute averaging period to account for small fluctuations in combustion chamber pressure due to inaccurate readings of the monitor or feeding practices that lead to brief increases in combustion pressure.” See Final Response to Comments to the Proposed HWC MACT Standards, Volume II, Section Titled “Combustion Fugitive Emissions Maximum Pressure Limit,” pages 5 and 6.

The Agency today clarifies that the response to comments language is incorrect. We considered the commenters' suggested approach of allowing the use of one-minute averaging periods to comply with option 2 (i.e., § 63.1206(c)(5)(i)(B)), but later rejected the approach because it did not assure fugitive emissions would be adequately controlled. The response to comments document represents an earlier point of view and inadvertently was not updated to reflect our final position.²

² We note that the decision not to allow the use of averaging periods to comply with § 63.1206(c)(5)(i)(B) is reflected in the September 30, 1999 preamble (see 64 FR 52920) and the July 1999 Final Technical Support Document, Volume IV, Chapter 2, Section 2.2.1, and Chapter 8.

5. Clarification of Applicability of Subpart EEE to Facilities Previously Subject to Title V Permitting

Following promulgation of the September 30, 1999 rule, we received a number of questions regarding the applicability of subpart EEE to sources that operate, or are being constructed/reconstructed, at facilities previously subject to, or in possession of, a title V permit. These questions arise in response to the rule language of 40 CFR 63.1200 (a)(2) where we state that, “Both area sources and major sources, not previously subject to title V permitting, are immediately subject to the requirement to apply for and obtain a title V permit in all States, and in areas covered by part 71 of this chapter.” In today's correction document we are clarifying that the provisions of subpart EEE apply to each hazardous waste burning incinerator, cement kiln, and lightweight aggregate kiln individually firing hazardous waste on, or following, the effective date of the final rule (September 30, 1999).³ This includes individual affected sources operating at facilities currently in possession of a title V permit due to other regulated activities at the facility. The language of § 63.1200(a)(2) in no way limits the need for facilities currently in possession of a title V permit to fulfill the requirements of subpart EEE as they apply to each affected source operating at the facility. Section 63.1200(a)(2) is only meant to state that facilities in possession of a title V permit do not have to apply for a new title V permit for the hazardous waste burning activities regulated by subpart EEE. Our presumption in promulgating § 63.1200(a)(2) is that sources currently in possession of a title V permit must follow the applicable requirements of the general provisions found at 40 CFR part 63, subpart A, and the permit revision provisions of 40 CFR part 71, subpart A.

³ The provisions of subpart EEE apply to each source firing hazardous waste on the effective date of the rule unless a source can demonstrate that it is exempt from subpart EEE because the source is in compliance with one of the three provisions identified in table 1 to § 63.1200.

6. Operator Training and Certification Requirement Is Clarified

Many stakeholders have expressed concern that the operator training and certification requirements under § 63.1206(c)(6) could be interpreted to require virtually every employee at the facility to pass a technical training and certification program equivalent to that of the American Society of Mechanical Engineers (ASME) QHO-1 program. These stakeholders note that a formal technical training and certification program is not necessary or appropriate for employees holding positions not related to the emissions control aspects of facilities operations—such as some of the administrative staff, quarry workers and raw material handlers.

We agree and are clarifying today that we neither intended the facility to subject all personnel to the training and certification program requirements nor intended the facility to establish a single training and certification program applicable to all categories of personnel whose activities may reasonably be expected to directly affect emissions of hazardous air pollutants. Instead, we contemplated a source having several programs suitable for each category of personnel, and that for control room operators and shift supervisors, the training and certification program would certainly be of a technical level similar to ASME QHO-1. For personnel whose activities may reasonably be expected to directly affect emissions, the certification may simply consist of documentation that they successfully completed a training program commensurate with the level of responsibility for the particular position. Personnel such as quarry operators, raw material workers, finished product handlers, some types of process monitoring operations, and much of the administrative staff whose activities are not expected to directly affect emissions of hazardous air pollutants from the source are exempted from the operator training and certification requirements of § 63.1206(c)(6).

7. Part 60, Appendix A, Method 5i, Section 12.2b—Relative Standard Deviation (RSD) Criteria for Emissions Less Than 1 mg/dscm Are Clarified

Part 60, appendix A, Method 5i, section 12.2b includes a graduated precision criteria for eliminating imprecise data. Section 12.2a includes a simplified equation for calculating the precision criteria, called the Relative Standard Deviation, or RSD. The proposal to include a precision criteria in Method 5i was widely endorsed.

The precision criteria currently state that if the average of paired train data is greater than 10 mg/dscm, the resulting RSD must not be greater than 10%. At a paired train data average of 1 mg/dscm, the RSD must not be greater than 25%. Between 1 and 10 mg/dscm, the RSD is linearly scaled from 25 to 10% based on the actual mean value recorded. The method is silent about what the RSD is if the mean emissions are less than 1 mg/dscm.

We intended there to be no RSD criteria if the average emissions from the paired data trains is less than 1 mg/dscm. In other words, no precision criteria exist and all average results less than 1 mg/dscm are acceptable.

IV. Administrative Requirements

Under Executive Order 12866 (58 FR 51735, October 4, 1993), this action is not a “significant regulatory action” and is therefore not subject to review by the Office of Management and Budget. Because the agency has made a “good cause” finding, see Section I above, that this action is not subject to notice-and-comment requirements under the Administrative Procedure Act or any other statute, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant.

This technical correction action does not involve technical standards; thus, the requirements of section 12(d) of the National Technology Transfer and Advancement Act of 1995 (15 U.S.C. 272 note) do not apply. The rule also does not involve special consideration of environmental justice related issues as required by Executive Order 12898 (59 FR 7629, February 16, 1994). In issuing this rule, we have taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.). Our compliance with these statutes and Executive Orders for the underlying rule is discussed in the September 30, 1999 Federal Register document.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a good cause finding that notice and public procedure is impracticable, unnecessary or contrary to the public interest. This determination must be supported by a brief statement. 5 U.S.C. 808(2). As stated previously, EPA has made such a good cause finding, including the reasons therefor, and established an effective date of July 10, 2000. EPA will submit a report containing this rule and other required information to the U.S. Senate, the U.S. House of Representatives, and the Comptroller General of the United States prior to publication of the rule in the Federal Register. This action is not a “major rule” as defined by 5 U.S.C. 804(2).

V. Immediate Effective Date

EPA is making this rule effective immediately. The rule adopts amendments which are purely technical in that they correct mistakes which are clearly inconsistent with the Agency's stated intent. This rule also clarifies ambiguities or errors in preamble statements to help stakeholders better understand the regulations themselves. Comment on such changes is unnecessary within the meaning of 5 U.S.C. 553(b)(3)(B). For the same reasons, there is good cause to make the rule effective immediately pursuant to 5 U.S.C. 553 (d)(3).

List of Subjects

40 CFR Part 60

Environmental protection, Administrative practice and procedure, Air pollution control, Aluminum, Ammonium sulfate plants, Batteries, Beverages, Carbon monoxide, Cement industry, Coal, Copper, Dry cleaners, Electric power plants, Fertilizers, Fluoride, Gasoline, Glass and glass products, Grains, Graphic arts industry, Heaters, Household appliances, Insulation, Intergovernmental relations, Iron, Labeling, Lead, Lime, Metallic and nonmetallic mineral processing plants, Metals, Motor vehicles, Natural gas, Nitric acid plants, Nitrogen dioxide, Paper and paper products industry, Particulate matter, Paving and roofing materials, Petroleum, Phosphate, Plastics materials and synthetics, Polymers, Reporting and recordkeeping requirements, Sewage disposal, Steel, Sulfur oxides, Sulfuric acid plants, Tires, Urethane, Vinyl, Volatile organic compounds, Waste treatment and disposal, Zinc.

40 CFR Part 63

Environmental protection, Air pollution control, Hazardous substances, Reporting and recordkeeping requirements.

40 CFR Part 261

Environmental protection, Comparable fuels, Syngas fuels, Excluded hazardous waste, Hazardous waste, Reporting and recordkeeping requirements.

40 CFR Part 270

Environmental protection, Administrative practice and procedure, Confidential business information, Hazardous materials transportation, Hazardous waste, Reporting and recordkeeping requirements, Water pollution control, Water supply.

Dated: June 13, 2000.
Michael Shapiro,
Principal Deputy Assistant Administrator, Office of Solid Waste and Emergency Response.

For the reasons set out in the preamble, title 40 of the Code of Federal Regulations is amended as follows:

PART 60—STANDARDS OF PERFORMANCE FOR NEW STATIONARY SOURCES

1. The authority citation for part 60 continues to read as follows:

Authority: 42 U.S.C. 7401, 7411, 7414, 7416, 7429, and 7601.

2. Appendix A in part 60 is amended by revising paragraph 12.2(b) in test method 5i to read as follows:

Appendix A—Test Methods

* * * * *

Method 5I—Determination of Low Level Particulate Matter Emissions From Stationary Sources

* * * * *

12.2 * * *

b. A minimum precision criteria for Reference Method PM data is that RSD for any data pair must be less than 10% as long as the mean PM concentration is greater than 10 mg/dscm. If the mean PM concentration is less than 10 mg/dscm higher RSD values are acceptable. At mean PM concentration of 1 mg/dscm acceptable RSD for paired trains is 25%. Between 1 and 10 mg/dscm acceptable RSD criteria should be linearly scaled from 25% to 10%. Pairs of manual method data exceeding these RSD criteria should be eliminated from the data set used to develop a PM CEMS correlation or to assess RCA. If the mean PM concentration is less than 1 mg/dscm, RSD does not apply and the mean result is acceptable.

* * * * *

PART 63—NATIONAL EMISSION STANDARDS FOR HAZARDOUS AIR POLLUTANTS FOR SOURCE CATEGORIES

3. The authority citation for part 63 continues to read as follows:

Authority: 42 U.S.C. 7401 et seq.

Subpart EEE—National Emission Standards for Hazardous Air Pollutants from Hazardous Waste Combustors

4. Section 63.1200 is amended by revising Table 1 in paragraph (b) to read as follows:

§ 63.1200 Who is subject to these regulations?

* * * * *

(b) * * *

Table 1 to § 63.1200.—Hazardous Waste Combustors Exempt From Subpart EEE
If | And if | Then
(1) You are a previously affected source | (i) You ceased feeding hazardous waste for a period of time greater than the hazardous waste residence time (i.e., hazardous waste no longer resides in the combustion chamber); (ii) You have initiated the closure requirements of subpart G, parts 264 or 265 of this chapter; (iii) You begin complying with the requirements of all other applicable standards of this part (Part 63); and (iv) You notify the Administrator in writing that you are no longer an affected source under this subpart (Subpart EEE) | You are no longer subject to this subpart (Subpart EEE).
(2) You are a research, development, and demonstration source | You operate for no longer than one year after first burning hazardous waste (Note that the Administrator can extent this one-year restriction on a case-by-case basis upon your written request documenting when you first burned hazardous waste and the justification for needing additional time to perform research, development, or demonstration operations.) | You are not subject to this subpart (Subpart EEE). This exemption applies even if there is a hazardous waste combustor at the plant site that is regulated under this subpart. You still, however, remain subject to § 270.65 of this chapter.
(3) The only hazardous wastes you burn are exempt from regulation under § 266.100(c) of this chapter |  | You are not subject to the requirements of this subpart (Subpart EEE).

* * * * *

5. Section 63.1201 is amended by revising the definition of Automatic waste feed cutoff (AWFCO) system in paragraph (a) to read as follows:

§ 63.1201 Definitions and acronyms used in this subpart.

(a) * * *

Automatic waste feed cutoff (AWFCO) system means a system comprised of cutoff valves, actuator, sensor, data manager, and other necessary components and electrical circuitry designed, operated and maintained to stop the flow of hazardous waste to the combustion unit automatically and immediately (except as provided by § 63.1206(c)(3)(viii)) when any operating requirement is exceeded.

* * * * *

6. Section 63.1203 is amended by revising paragraphs (a)(3), (a)(4), (a)(5)(i), and (b)(5)(i) and removing paragraph (e) to read as follows:

§ 63.1203 What are the standards for hazardous waste incinerators?

(a) * * *

(3) Lead and cadmium in excess of 240 μg/dscm, combined emissions, corrected to 7 percent oxygen;

(4) Arsenic, beryllium, and chromium in excess of 97 μg/dscm, combined emissions, corrected to 7 percent oxygen;

(5) * * *

(i) Carbon monoxide in excess of 100 parts per million by volume, over an hourly rolling average (monitored continuously with a continuous emissions monitoring system), dry basis and corrected to 7 percent oxygen. If you elect to comply with this carbon monoxide standard rather than the hydrocarbon standard under paragraph (a)(5)(ii) of this section, you must also document that, during the destruction and removal efficiency (DRE) test runs or their equivalent as provided by § 63.1206(b)(7), hydrocarbons do not exceed 10 parts per million by volume during those runs, over an hourly rolling average (monitored continuously with a continuous emissions monitoring system), dry basis, corrected to 7 percent oxygen, and reported as propane; or

* * * * *

(b) * * *

(5) * * *

(i) Carbon monoxide in excess of 100 parts per million by volume, over an hourly rolling average (monitored continuously with a continuous emissions monitoring system), dry basis and corrected to 7 percent oxygen. If you elect to comply with this carbon monoxide standard rather than the hydrocarbon standard under paragraph (b)(5)(ii) of this section, you must also document that, during the destruction and removal efficiency (DRE) test runs or their equivalent as provided by § 63.1206(b)(7), hydrocarbons do not exceed 10 parts per million by volume during those runs, over an hourly rolling average (monitored continuously with a continuous emissions monitoring system), dry basis, corrected to 7 percent oxygen, and reported as propane; or

* * * * *

7. Section 63.1204 is amended by revising paragraphs (a)(5)(i)(A), (a)(5)(ii)(B), and (b)(5)(i)(A)(l) and by removing and reserving paragraph (g) to read as follows:

§ 63.1204 What are the standards for hazardous waste burning cement kilns?

(a) * * *

(5) * * *

(i) * * *

(A) Carbon monoxide in the by-pass duct or mid-kiln gas sampling system in excess of 100 parts per million by volume, over an hourly rolling average (monitored continuously with a continuous emissions monitoring system), dry basis and corrected to 7 percent oxygen. If you elect to comply with this carbon monoxide standard rather than the hydrocarbon standard under paragraph (a)(5)(i)(B) of this section, you must also document that, during the destruction and removal efficiency (DRE) test runs or their equivalent as provided by § 63.1206(b)(7), hydrocarbons in the by-pass duct or mid-kiln gas sampling system do not exceed 10 parts per million by volume during those runs, over an hourly rolling average (monitored continuously with a continuous emissions monitoring system), dry basis, corrected to 7 percent oxygen, and reported as propane; or

* * * * *

(ii) * * *

(B) Carbon monoxide in the main stack in excess of 100 parts per million by volume, over an hourly rolling average (monitored continuously with a continuous emissions monitoring system), dry basis and corrected to 7 percent oxygen. If you elect to comply with this carbon monoxide standard rather than the hydrocarbon standard under paragraph (a)(5)(ii)(A) of this section, you also must document that, during the destruction and removal efficiency (DRE) test runs or their equivalent as provided by § 63.1206(b)(7), hydrocarbons in the main stack do not exceed 20 parts per million by volume during those runs, over an hourly rolling average (monitored continuously with a continuous emissions monitoring system), dry basis, corrected to 7 percent oxygen, and reported as propane.

* * * * *

(b) * * *

(5) * * *

(i) * * *

(A) * * *

(1) Carbon monoxide in excess of 100 parts per million by volume, over an hourly rolling average (monitored continuously with a continuous emissions monitoring system), dry basis and corrected to 7 percent oxygen. If you elect to comply with this carbon monoxide standard rather than the hydrocarbon standard under paragraph (b)(5)(i)(A)(2) of this section, you also must document that, during the destruction and removal efficiency (DRE) test runs or their equivalent as provided by § 63.1206(b)(7), hydrocarbons do not exceed 10 parts per million by volume during those runs, over an hourly rolling average (monitored continuously with a continuous emissions monitoring system), dry basis, corrected to 7 percent oxygen, and reported as propane; or

* * * * *

8. Section 63.1205 is amended by revising paragraph (a)(5)(i); by redesignating paragraph (b)(5) introductory text as paragraph (b)(5)(i) and revising it; and by removing paragraph (e), to read as follows:

§ 63.1205 What are the standards for hazardous waste burning lightweight aggregate kilns?

(a) * * *

(5) * * *

(i) Carbon monoxide in excess of 100 parts per million by volume, over an hourly rolling average (monitored continuously with a continuous emissions monitoring system), dry basis and corrected to 7 percent oxygen. If you elect to comply with this carbon monoxide standard rather than the hydrocarbon standard under paragraph (a)(5)(ii) of this section, you also must document that, during the destruction and removal efficiency (DRE) test runs or their equivalent as provided by § 63.1206(b)(7), hydrocarbons do not exceed 20 parts per million by volume during those runs, over an hourly rolling average (monitored continuously with a continuous emissions monitoring system), dry basis, corrected to 7 percent oxygen, and reported as propane; or

* * * * *

(b) * * *

(5) Carbon monoxide and hydrocarbons. (i) Carbon monoxide in excess of 100 parts per million by volume, over an hourly rolling average (monitored continuously with a continuous emissions monitoring system), dry basis and corrected to 7 percent oxygen. If you elect to comply with this carbon monoxide standard rather than the hydrocarbon standard under paragraph (b)(5)(ii) of this section, you also must document that, during the destruction and removal efficiency (DRE) test runs or their equivalent as provided by § 63.1206(b)(7), hydrocarbons do not exceed 20 parts per million by volume during those runs, over an hourly rolling average (monitored continuously with a continuous emissions monitoring system), dry basis, corrected to 7 percent oxygen, and reported as propane; or

* * * * *

9. Section 63.1206 is amended by revising paragraph (b)(5)(i) introductory text, (b)(5)(i)(C)(1), (b)(5)(iii), and (c)(6)(i) to read as follows:

§ 63.1206 When and how must you comply with the standards and operating requirements?

* * * * *

(b) * * *

(5) Changes in design, operation, or maintenance. (i) Changes that may adversely affect compliance. If you plan to change (as defined in paragraph (b)(5)(iii) of this section) the design, operation, or maintenance practices of the source in a manner that may adversely affect compliance with any emission standard that is not monitored with a CEMS:

* * * * *

(C) * * *

(1) Except as provided by paragraph (b)(5)(i)(C)(2) of this section, after the change and prior to submitting the notification of compliance, you must not burn hazardous waste for more than a total of 720 hours (renewable at the discretion of the Administrator) and only for the purposes of pretesting or comprehensive performance testing. Pretesting is defined at § 63.1207(h)(2)(i) and (ii).

* * * * *

(iii) Definition of “change.” For purposes of paragraph (b)(5) of this section, “change” means any change in design, operation, or maintenance practices that were documented in the comprehensive performance test plan, Notification of Compliance, or startup, shutdown, and malfunction plan.

* * * * *

(c) * * *

(6) Operator training and certification. (i) You must establish training programs for all categories of personnel whose activities may reasonably be expected to directly affect emissions of hazardous air pollutants from the source. Such persons include, but are not limited to, chief facility operators, control room operators, continuous monitoring system operators, persons that sample and analyze feedstreams, persons that manage and charge feedstreams to the combustor, persons that operate emission control devices, and ash and waste handlers. Each training program shall be of a technical level commensurate with the person's job duties specified in the training manual. Each commensurate training program shall require an examination to be administered by the instructor at the end of the training course. Passing of this test shall be deemed the “certification” for personnel, except that for control room operators and shift supervisors, the training and certification program shall be as specified in paragraphs (c)(6)(iii) and (iv) of this section.

* * * * *

10. Section 63.1207 is amended by revising paragraphs (f)(1)(ii)(A), (f)(1)(ii)(B), (f)(1)(ix), (f)(1)(x), (f)(1)(xi), (f)(1)(xii), (h)(2) introductory text, and (j)(1)(i); redesignating paragraph (f)(1)(xiii) as (f)(1)(xxvi); and adding paragraphs (f)(1)(xiii) through (f)(1)(xxv), to read as follows:

§ 63.1207 What are the performance testing requirements?

* * * * *

(f) * * *

(1) * * *

(ii) * * *

(A) An identification of such organic hazardous air pollutants that are present in the feedstream, except that you need not analyze for organic hazardous air pollutants that would reasonably not be expected to be found in the feedstream. You must identify any constituents you exclude from analysis and explain the basis for excluding them. You must conduct the feedstream analysis according to § 63.1208(b)(8).;

(B) An approximate quantification of such identified organic hazardous air pollutants in the feedstreams, within the precision produced by the analytical procedures of § 63.1208(b)(8); and

* * * * *

(ix) A determination of the hazardous waste residence time as required by § 63.1206(b)(11);

(x) If you are requesting to extrapolate metal feedrate limits from comprehensive performance test levels under §§ 63.1209(l)(1)(i) or 63.1209(n)(2)(ii))(A):

(A) A description of the extrapolation methodology and rationale for how the approach ensures compliance with the emission standards;

(B) Documentation of the historical range of normal (i.e., other than during compliance testing) metals feedrates for each feedstream;

(C) Documentation that the level of spiking recommended during the performance test will mask sampling and analysis imprecision and inaccuracy to the extent that extrapolation of feedrates and emission rates from performance test data will be as accurate and precise as if full spiking were used;

(xi) If you do not continuously monitor regulated constituents in natural gas, process air feedstreams, and feedstreams from vapor recovery systems under § 63.1209(c)(5), you must include documentation of the expected levels of regulated constituents in those feedstreams;

(xii) Documentation justifying the duration of system conditioning required to ensure the combustor has achieved steady-state operations under performance test operating conditions, as provided by paragraph (g)(1)(iii) of this section;

(xiii) For cement kilns with in-line raw mills, if you elect to use the emissions averaging provision of § 63.1204(d), you must notify the Administrator of your intent in the initial (and subsequent) comprehensive performance test plan, and provide the information required under § 63.1204(d)(ii)(B).

(xiv) For preheater or preheater/precalciner cement kilns with dual stacks, if you elect to use the emissions averaging provision of § 63.1204(e), you must notify the Administrator of your intent in the initial (and subsequent) comprehensive performance test plan, and provide the information required under § 63.1204(e)(2)(iii)(A).

(xv) For incinerators and lightweight aggregate kilns equipped with a baghouse, you must submit the baghouse operation and maintenance plan required under § 63.1206(c)(7)(ii) with the initial comprehensive performance test plan.

(xvi) If you are not required to conduct performance testing to document compliance with the mercury, semivolatile metal, low volatile metal, or hydrochloric acid/chlorine gas emission standards under paragraph (m) of this section, you must include with the comprehensive performance test plan documentation of compliance with the provisions of that section.

(xvii) If you propose to use a surrogate for measuring or monitoring gas flowrate, you must document in the comprehensive performance test plan that the surrogate adequately correlates with gas flowrate, as required by paragraph (m)(7) of this section, and § 63.1209(j)(2), (k)(3), (m)(2)(i), (m)(5)(i), and (o)(2)(i).

(xviii) You must submit an application to request alternative monitoring under § 63.1209(g)(1) not later than with the comprehensive performance test plan, as required by § 63.1209(g)(1)(iii)(A).

(xix) You must document the temperature location measurement in the comprehensive performance test plan, as required by §§ 63.1209(j)(1)(i) and 63.1209(k)(2)(i).

(xx) If your source is equipped with activated carbon injection, you must document in the comprehensive performance test plan:

(A) The manufacturer specifications for minimum carrier fluid flowrate or pressure drop, as required by § 63.1209(k)(6)(ii); and

(B) Key parameters that affect carbon adsorption, and the operating limits you establish for those parameters based on the carbon used during the performance test, if you elect not to specify and use the brand and type of carbon used during the comprehensive performance test, as required by § 63.1209(k)(6)(iii).

(xxi) If your source is equipped with a carbon bed system, you must include in the comprehensive performance test plan:

(A) A recommended schedule for conducting a subsequent performance test to document compliance with the dioxin/furan and mercury emission standards if you use manufacturer specifications rather than actual bed age at the time of the test to establish the initial limit on bed age, as required by § 63.1209(k)(7)(i)(C); and

(B) Key parameters that affect carbon adsorption, and the operating limits you establish for those parameters based on the carbon used during the performance test, if you elect not to specify and use the brand and type of carbon used during the comprehensive performance test, as required by § 63.1209(k)(7)(ii).

(xxii) If you feed a dioxin/furan inhibitor into the combustion system, you must document in the comprehensive performance test plan key parameters that affect the effectiveness of the inhibitor, and the operating limits you establish for those parameters based on the inhibitor fed during the performance test, if you elect not to specify and use the brand and type of inhibitor used during the comprehensive performance test, as required by § 63.1209(k)(9)(ii).

(xxiii) If your source is equipped with a wet scrubber and you elect to monitor solids content of the scrubber liquid manually but believe that hourly monitoring of solids content is not warranted, you must support an alternative monitoring frequency in the comprehensive performance test plan, as required by § 63.1209(m)(1)(i)(B)(1)(i).

(xxiv) If your source is equipped with a particulate matter control device other than a wet scrubber, baghouse, or electrostatic precipitator, you must include in the comprehensive performance test plan:

(A) Documentation to support the operating parameter limits you establish for the control device, as required by § 63.1209(m)(1)(iv)(A)(4); and

(B) Support for the use of manufacturer specifications if you recommend such specifications in lieu of basing operating limits on performance test operating levels, as required by § 63.1209(m)(1)(iv)(D).

(xxv) If your source is equipped with a dry scrubber to control hydrochloric acid and chlorine gas, you must document in the comprehensive performance test plan key parameters that affect adsorption, and the limits you establish for those parameters based on the sorbent used during the performance test, if you elect not to specify and use the brand and type of sorbent used during the comprehensive performance test, as required by § 63.1209(o)(4)(iii)(A); and

* * * * *

(h) * * *

(2) Current operating parameter limits are also waived during pretesting prescribed in the approved test plan prior to comprehensive performance testing for an aggregate time not to exceed 720 hours of operation (renewable at the discretion of the Administrator). Pretesting means:

* * * * *

(j) * * *

(1) * * *

(i) Within 90 days of completion of a comprehensive performance test, you must postmark a Notification of Compliance documenting compliance or noncompliance with the emission standards and continuous monitoring system requirements, and identifying operating parameter limits under § 63.1209.

* * * * *

11. Section 63.1209 is amended by revising the word “standards” in the first sentence of paragraph (a)(7) to read “standard” and by revising paragraphs (a)(1)(i), (a)(1)(iii), (a)(6)(iii)(A), (b)(2) introductory text, (l)(1), (l)(3), (l)(4), (m)(3), (n)(2)(i)(A), (B) and (C), (n)(4), and (o)(1) to read as follows:

§ 63.1209 What are the monitoring requirements?

(a) * * *

(1)(i) You must use either a carbon monoxide or hydrocarbon CEMS to demonstrate and monitor compliance with the carbon monoxide and hydrocarbon standard under this subpart. You must also use an oxygen CEMS to continuously correct the carbon monoxide or hydrocarbon level to 7 percent oxygen.

* * * * *

(iii) You must install, calibrate, maintain, and operate a particulate matter CEMS to demonstrate and monitor compliance with the particulate matter standards under this subpart. However, compliance with the requirements in this section to install, calibrate, maintain and operate the PM CEMS is not required until such time that the Agency promulgates all performance specifications and operational requirements applicable to PM CEMS.

* * * * *

(6) * * *

(iii) Calculation of rolling averages when the hazardous waste feed is cutoff. (A) Except as provided by paragraph (a)(6)(iii)(B) of this section, you must continue monitoring carbon monoxide and hydrocarbons when the hazardous waste feed is cutoff if the source is operating. You must not resume feeding hazardous waste if the emission levels exceed the standard.

* * * * *

(b) * * *

(2) Except as specified in paragraphs (b)(2)(i) and (ii) of this section, you must install and operate continuous monitoring systems other than CEMS in conformance with § 63.8(c)(3) that requires you, at a minimum, to comply with the manufacturer's written specifications or recommendations for installation, operation, and calibration of the system:

* * * * *

(l) * * *

(1) Feedrate of total mercury. You must establish a 12-hour rolling average limit for the total feedrate of mercury in all feedstreams as the average of the test run averages, unless mercury feedrate limits are extrapolated from performance test feedrate levels under the following provisions.

* * * * *

(3) Activated carbon injection. If your combustor is equipped with an activated carbon injection system, you must establish operating parameter limits prescribed by paragraph (k)(6) of this section.

(4) Activated carbon bed. If your combustor is equipped with a carbon bed system, you must establish operating parameter limits prescribed by paragraph (k)(7) of this section.

* * * * *

(m) * * *

(3) Maximum ash feedrate. Owners and operators of hazardous waste incinerators must establish a maximum ash feedrate limit as the average of the test run averages.

* * * * *

(n) * * *

(2) * * *

(i) * * *

(A) You must establish a 12-hour rolling average limit for the feedrate of cadmium and lead, combined, in all feedstreams as the average of the test run averages;

(B) You must establish a 12-hour rolling average limit for the feedrate of arsenic, beryllium, and chromium, combined, in all feedstreams as the average of the test run averages; and

(C) You must establish a 12-hour rolling average limit for the feedrate of arsenic, beryllium, and chromium, combined, in all pumpable feedstreams as the average of the test run averages. Dual feedrate limits for both pumpable and total feedstreams are not required, however, if you base the total feedrate limit solely on the feedrate of pumpable feedstreams.

* * * * *

(4) Maximum total chlorine and chloride feedrate. You must establish a 12-hour rolling average limit for the feedrate of total chlorine and chloride in all feedstreams as the average of the test run averages.

* * * * *

(o) * * *

(1) Feedrate of total chlorine and chloride. You must establish a 12-hour rolling average limit for the total feedrate of chlorine (organic and inorganic) in all feedstreams as the average of the test run averages.

* * * * *

12. Section 63.1210 is amended by revising paragraphs (b)(1)(iv) introductory text and (c)(2) to read as follows:

§ 63.1210 What are the notification requirements?

* * * * *

(b) * * *

(1) * * *

(iv) If you do not intend to comply, but will not stop burning hazardous waste by October 1, 2001, a certification that:

* * * * *

(c) * * *

(2) You must submit a summary of the meeting, along with the list of attendees and their addresses, developed under paragraph (c)(1) of this section, and copies of any written comments or materials submitted at the meeting, to the Administrator as part of the final NIC, in accordance with paragraph (b)(1)(iii) of this section.

* * * * *

13. Section 63.1211 is amended by revising the table in paragraph (c) to read as follows:

§ 63.1211 What are the recordkeeping and reporting requirements?

* * * * *

(c) * * *

Reference | Document, data, or information
63.1201(a), 63.10(b) and (c) | General. Information required to document and maintain compliance with the regulations of this Subpart EEE, including data recorded by continuous monitoring systems (CMS), and copies of all notifications, reports, plans, and other documents submitted to the Administrator.
63.1211(d) | Documentation of compliance.
63.1206(c)(3)(vii) | Documentation and results of the automatic waste feed cutoff operability testing.
63.1209(c)(2) | Feedstream analysis plan.
63.1204(d)(3) | Documentation of compliance with the emission averaging requirements for cement kilns with in-line raw mills.
63.1204(e)(3) | Documentation of compliance with the emission averaging requirements for preheater or preheater/precalciner kilns with dual stacks.
63.1206(b)(1)(ii)(B) | If you elect to comply with all applicable requirements and standards promulgated under authority of the Clean Air Act, including Sections 112 and 129, in lieu of the requirements of this Subpart EEE when not burning hazardous waste, you must document in the operating record that you are in compliance with those requirements.
63.1206(c)(2) | Startup, shutdown, and malfunction plan.
63.1206(c)(3)(v) | Corrective measures for any automatic waste feed cutoff that results in an exceedance of an emission standard or operating parameter limit.
63.1206(c)(4)(ii) | Emergency safety vent operating plan.
63.1206(c)(4)(iii) | Corrective measures for any emergency safety vent opening.
63.1206(c)(5)(ii) | Method used for control of combustion system leaks.
63.1206(c)(6) | Operator training and certification program.
63.1206(c)(7)(i)(D) | Operation and maintenance plan.
63.1209(k)(6)(iii), 63.1209(k)(7)(ii), 63.1209(k)(9)(ii), 63.1209(o)(4)(iii) | Documentation that a substitute activated carbon, dioxin/furan formation reaction inhibitor, or dry scrubber sorbent will provide the same level of control as the original material.

* * * * *

14. Section 63.1212 is amended by revising paragraphs (a)(2), (b)(1), and (b)(2) introductory text to read as follows:

§ 63.1212 What are the other requirements pertaining to the NIC and associated progress reports?

(a) * * *

(2) An authorized representative is the same as a “responsible official” as defined under § 63.2.

(b) * * *

(1) If you begin to burn hazardous waste after September 30, 1999 but prior to June 30, 2000 you must comply with the requirements of §§ 63.1206(a)(3), 63.1210(b) and (c), 63.1211(b), and paragraph (a) of this section, and associated time frames for public meetings and document submittals.

(2) If you intend to begin burning hazardous waste after June 30, 2000 you must comply with the requirements of §§ 63.1206(a)(3), 63.1210(b) and (c), 63.1211(b), and paragraph (a) of this section prior to burning hazardous waste. In addition:

* * * * *

15. The appendix to subpart EEE of part 63 is amended by revising sections 1.1, and 2.8, redesignating sections c and d as 3 and 4, respectively, by revising the header for section 5, and by revising section 6.5.1 to read as follows:

Appendix to Subpart EEE of Part 63—Quality Assurance Procedures for Continuous Emissions Monitors Used for Hazardous Waste Combustors

* * * * *

1.1 Applicability. These quality assurance requirements are used to evaluate the effectiveness of quality control (QC) and quality assurance (QA) procedures and the quality of data produced by continuous emission monitoring systems (CEMS) that are used for determining compliance with the emission standards on a continuous basis as specified in the applicable regulation. The QA procedures specified by these requirements represent the minimum requirements necessary for the control and assessment of the quality of CEMS data used to demonstrate compliance with the emission standards provided under this subpart EEE of part 63. Owners and operators must meet these minimum requirements and are encouraged to develop and implement a more extensive QA program. These requirements supersede those found in part 60, Appendix F, of this chapter. Appendix F does not apply to hazardous waste-burning devices.

* * * * *

2.8 Rolling Average. The average emissions, based on some (specified) time period, calculated every minute from a one-minute average of four measurements taken at 15-second intervals.

* * * * *

5. Performance Evaluation for CO, O2, and HC CEMS

* * * * *

6.5.1 One-Minute Average for CO and HHC CEMS. One-minute averages are the arithmetic average of the four most recent 15-second observations and must be calculated using the following equation:

Where:

c̄ = the one minute average

ci = a fifteen-second observation from the CEM

Fifteen second observations must not be rounded or smoothed. Fifteen-second observations may be disregarded only as a result of a failure in the CEMS and allowed in the source's quality assurance plan at the time of the CEMS failure. One-minute averages must not be rounded, smoothed, or disregarded.

* * * * *

PART 261—IDENTIFICATION AND LISTING OF HAZARDOUS WASTE

16. The authority citation for part 261 continues to read as follows:

Authority: 42 U.S.C. 6905, 6912(a), 6921, 6922, and 6938.

17. Section 261.38 is amended by adding paragraph (c)(2)(iv) to read as follows:

§ 261.38 Comparable/Syngas Fuel Exclusion.

* * * * *

(c) * * *

(2) * * *

(iv) Gas turbines used to produce electric power, steam, heated or cooled air, or other gases or fluids for sale.

* * * * *

PART 270—EPA ADMINISTERED PERMIT PROGRAMS: THE HAZARDOUS WASTE PERMIT PROGRAM

18. The authority citation for part 270 continues to read as follows:

Authority: 42 U.S.C. 6905, 6912, 6924, 6925, 6927, 6939, and 6974.

19. Section 270.42 is amended by revising paragraph (j)(1) to read as follows:

§ 270.42 Permit modification at the request of the permittee.

* * * * *

(j) * * *

(1) Facility owners or operators must comply with the Notification of Intent to Comply (NIC) requirements of 40 CFR 63.1210(b) and (c) before a permit modification can be requested under this section.

* * * * *

[FR Doc. 00-16515 Filed 7-7-00; 8:45 am]

BILLING CODE 6560-50-P